POSTAL SERVICE

39 CFR Part 111

Domestic Mail Manual Changes for First-Class Mail, Standard Mail, and Bound Printed Matter Flats

AGENCY: Postal Service.

ACTION: Final rule.

SUMMARY: This final rule amends the Domestic Mail Manual (DMM) to implement the following mail preparation standards: For First-Class Mail, packages of Presorted rate flats and packages of automation rate flats that are part of the same mailing job and reported on the same postage statement must be co-trayed according to the standards in DMM M910; For Standard Mail, packages of Presorted rate flats and packages of automation rate flats that are part of the same mailing job and reported on the same postage statement must be co-sacked according to the standards in DMM M910; For Standard Mail, packages of Enhanced Carrier Route flats and 5-digit packages of Presorted flats must be sacked or palletized using the labeling list L001 scheme sort. This includes the scheme sorts included in the optional preparation methods in DMM M920, M930, and M940; and For Bound Printed Matter, packages of Carrier Route flats and 5-digit packages of Presorted flats must be sacked or palletized using the labeling list L001 scheme sort.

EFFECTIVE DATE: September 1, 2001.

FOR FURTHER INFORMATION CONTACT: Anne Emmerth, 703-292-3641, aemmerth@email.usps.gov.

SUPPLEMENTARY INFORMATION: On March 16, 2001 (66 FR 15206), the Postal Service published in the Federal Register a proposed rule seeking comments on proposed changes to the Domestic Mail Manual (DMM) that would revise mail preparation standards for flats. The original comment period ended on April 13, 2001; as of that date, no comments were received. On April 17, 2001 (65 FR 19740), the Postal Service re-opened the comment period through May 4 to allow customers more time to comment on the proposed changes. The Postal Service received one comment.

Generally, the changes are intended to align mail preparation more closely with the way that the Postal Service transports and processes flat-size mail. The co-traying requirements for First-Class Mail flats and the co-sacking requirements for Standard Mail flats will result in fewer less-than-full trays and sacks and an overall reduction in the number of trays and sacks prepared by mailers and processed by the Postal Service. For Presorted rate Standard Mail, with sack-based rates, this requirement also will result in lower postage rates for some mail that will move to a finer sack presort level. Requiring the use of labeling list L001 for sacked carrier route Standard Mail and Bound Printed Matter flats also will result in fewer sacks prepared by mailers. For mail on pallets, use of L001 will create more 5-digit level pallets, resulting in fewer package handlings for the Postal Service and better service for mailers.

The changes are outlined below by class of mail; the DMM language follows at the end of this final rule.

In response to the proposed rule, the Postal Service received one comment from a large commercial printer. The commenter expressed support for the mail preparation changes in the proposed rule and believes that these changes will improve service and handling of 5-digit containers and reduce the number of sacks. The commenter suggested that the proposed September 1 implementation date be moved to January 2002. The commenter explained that in September the mailing industry will be in the midst of preparing its heaviest volumes for the fall mailing season, which is not a convenient time to implement new and complex preparation standards.

The Postal Service appreciates receiving supportive comments and thanks the commenter for responding to the proposed rule. The Postal Service recognizes that mail preparation changes can be disruptive to mailers who must adjust presort software systems and internal operations. The standards in this final rule will result in more efficient and cost-effective mail handling for the Postal Service and better service and postage savings for mailers. Therefore, implementing these changes on September 1 will allow the Postal Service and its customers to capture savings and efficiencies during the time of heaviest mail volume.

Based on the comment received and discussions with other mailers and presort software vendors regarding these changes, the Postal Service will implement the standards in this final rule on September 1, 2001. This will allow time for programming, testing, and installation of new presort software, and time for mailers to adjust their internal processes in advance of the fall mailing season.

The changes implemented in this final rule are as follows:

1. First-Class Mail

Required Co-Traying

Since January 7, 2001, mailers have had the option to use M910 to co-tray packages of Presorted rate flats and automation rate flats that are part of the same mailing job (see M130.1.6 and M820.1.9). This final rule changes that option into a requirement. Therefore, effective September 1, 2001, any First-Class Mail mailing job that contains packages of Presorted rate flats and packages of automation rate flats and is reported on a single postage statement must be co-trayed using M910.1.0.

2. Standard Mail

a. Scheme Sort

Currently, Standard Mail Enhanced Carrier Route flats are sorted to two required sack levels and one optional sort level (required carrier route, optional 5-digit scheme carrier routes using labeling list L001, and required 5-digit carrier routes) (see M620.4.0). This final rule changes the optional sort level into a required sort level. Therefore, effective September 1, 2001, all Enhanced Carrier Route Standard Mail flats must be sorted to all three required sack levels (carrier route, 5-digit scheme carrier routes, and 5-digit carrier routes).

Current M620.4.0 contains sack preparation requirements for Standard Mail Enhanced Carrier Route flats and irregular parcels. In order to apply the labeling list L001 scheme sort only to flats, the sacking requirements for flats have been separated into a different section. Therefore, the sack preparation requirements for irregular parcels are included in this final rule only to show renumbering and reorganization. There are no mail preparation changes for Standard Mail Enhanced Carrier Route irregular parcels.

Currently, mailers have the option to use the L001 scheme sort for packages of Standard Mail Enhanced Carrier Route flats and 5-digit packages of Presorted flats on pallets (see M045.3.2). This final rule changes the two optional sort levels using labeling list L001 (5-digit scheme carrier routes and 5-digit scheme) into required sort levels. Therefore, effective September 1, 2001, packages of carrier route rate flats on pallets must be sorted to 5-digit scheme carrier routes pallets as the first sort level, and 5-digit packages of Presorted flats must be sorted to 5-digit scheme pallets as the first sort level.

Under the advanced preparation options in M920, M930, and M940, mailers currently have the option of sorting Standard Mail packages with or without using the L001 scheme sort. This final rule eliminates the “non-L001” sort (current M920.2.4, M920.2.6, M930.2.4, and M940.2.4). Therefore, effective September 1, 2001, mailers sorting Standard Mail flats under M920, M930, or M940 will be required to use the L001 scheme sort.

These changes apply to regular and nonprofit Standard Mail flats.

b. Required Co-Sacking

Since January 7, 2001, mailers have had the option to use M910 to co-sack packages of Presorted rate flats and packages of automation rate flats that are part of the same mailing job (see M610.1.5 and M820.1.9). This final rule changes that option into a requirement. Therefore, effective September 1, 2001, any Standard Mail mailing job that contains packages of Presorted rate flats and packages of automation rate flats and is reported on a single postage statement must be co-sacked using M910.3.0.

These changes apply to regular and nonprofit Standard Mail flats.

3. Bound Printed Matter

Scheme Sort

Currently, Bound Printed Matter Carrier Route flats are sorted to two required sack levels and one optional sort level (required carrier route, optional 5-digit scheme carrier routes using labeling list L001, and required 5-digit carrier routes) (see M723.2.3). This final rule changes the optional sort level into a required sort level. Therefore, effective September 1, 2001, all Bound Printed Matter carrier route flats must be sorted to all three required sack levels (carrier route, 5-digit scheme carrier routes, and 5-digit carrier routes).

Currently, mailers have the option to use the L001 scheme sort for packages of Bound Printed Matter carrier route flats and 5-digit packages of Presorted flats on pallets (M045.3.3). This final rule changes the two optional sort levels (5-digit scheme carrier routes and 5-digit scheme) into required sort levels. Therefore, effective September 1, 2001, packages of carrier route rate flats on pallets must be sorted to 5-digit scheme carrier routes pallets as the first sort level, and 5-digit packages of Presorted flats must be sorted to 5-digit scheme pallets as the first sort level.

There are no other mail preparation changes for Bound Printed Matter.

PAVE Certification

For mailings that are co-trayed or co-sacked under M910, documentation produced by PAVE-certified software or standardized documentation under P012 must be submitted with each mailing job. Use of PAVE-certified software is required for the advanced “merging” preparation options in M920, M930, and M940, which include the L001 scheme sort.

Implementation Date

The implementation date for these changes is September 1, 2001. This date allows presort software vendors time to update and distribute software to their customers and includes time for installation and testing of the software.

List of Subjects in 39 CFR Part 111

Postal Service.

For the reasons mentioned above, the Postal Service hereby adopts the following amendments to the Domestic Mail Manual, which is incorporated by reference in the Code of Federal Regulations. See 39 CFR Part 111.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Amend the following sections of the Domestic Mail Manual (DMM) as follows:

E ELIGIBILITY

* * * * *

E600 Standard Mail

E610 Basic Standards

* * * * *

8.0 PREPARATION

Each Standard Mail mailing is subject to these general standards:

* * * * *

[Amend 8.0c to read as follows:]

c. For letter-size and flat-size mail, all pieces in an automation mailing must be eligible for an automation rate. Separate automation and Presorted rate mailings of flats that are reported on the same postage statement must be co-sacked under M910. Separate automation, Presorted, and Enhanced Carrier Route mailings of flats may be co-containerized under M920, M930, or M940.

* * * * *

E700 Package Services

* * * * *

E750. Destination Entry

* * * * *

E752. Bound Printed Matter

* * * * *

3.0 DESTINATION SECTIONAL CENTER FACILITY (DSCF) RATES

* * * * *

3.2 Presorted Flats

[Amend 3.2 by removing the word “optional” to show that the scheme sort is required.]

Presorted flats in sacks for the 5-digit, 3-digit, and SCF sort levels or on pallets at the 5-digit scheme, 5-digit, 3-digit, SCF, and ASF sort levels may claim DSCF rates. Mail must be entered at the appropriate facility under 3.1.

* * * * *

3.5 Carrier Route Flats

[Amend 3.5 by removing the word “optional” to show that the scheme sort is required.]

Carrier route flats in sacks at all sort levels or on pallets at 5-digit scheme carrier routes, 5-digit carrier routes, 3-digit, SCF, and ASF sort levels may claim DSCF rates. Mail must be entered at the appropriate facility under 3.1.

* * * * *

4.0 DESTINATION DELIVERY UNITS (DDU) RATES

* * * * *

4.2 Presorted Flats

[Amend 4.2 by removing the word “optional” to show that the scheme sort is required.]

Presorted flats that weigh more than 1 pound in 5-digit sacks, on 5-digit scheme and 5-digit pallets, or prepared as bedloaded 5-digit packages may claim DDU rates. Mail must be entered at the appropriate facility under 4.1. Presorted flats weighing 1 pound or less are not eligible for DDU rates.

* * * * *

4.5 Carrier Route Flats

[Amend 4.5 by removing the word “optional” to show that the scheme sort is required.]

Carrier Route flats in sacks, on 5-digit carrier routes scheme and 5-digit carrier routes pallets, or prepared as bedloaded carrier route packages may claim DDU rates. Mail must be entered at the appropriate facility under 4.1.

* * * * *

M MAIL PREPARATION AND SORTATION

M000 General Preparation Standards

M010 Mailpieces

M011 Basic Standards

1.0 TERMS AND CONDITIONS

* * * * *

1.3 Preparation Instructions

For the purposes of preparing mail:

* * * * *

[Amend 1.3j to show that the L001 scheme sort is required for Standard Mail Enhanced Carrier Route flats and Bound Printed Matter Carrier Route flats.]

j. A 5-digit/scheme carrier routes sort for carrier route rate Periodicals flats and irregular parcels (nonletters), Enhanced Carrier Route rate Standard Mail flats, and Carrier Route Bound Printed Matter flats, prepared in sacks or as packages on pallets yields a 5-digit scheme carrier routes sack or pallet for those 5-digit ZIP Codes listed in L001 and 5-digit carrier routes sacks or pallets for other areas. The 5-digit ZIP Codes in each scheme are treated as a single presort destination subject to a single minimum sack or pallet volume, with no further separation by 5-digit ZIP Code required. Sacks or pallets prepared for a 5-digit scheme carrier routes destination that contain carrier route packages for only one of the schemed 5-digit areas are still considered to be sorted to 5-digit scheme carrier routes and are labeled accordingly. The 5-digit/scheme carrier routes sort is required for carrier route packages of flat-size and irregular parcel Periodicals, for Enhanced Carrier Route Standard Mail flats, and for Carrier Route Bound Printed Matter flats. Preparation of 5-digit scheme carrier routes sacks or pallets must be done for all 5-digit scheme destinations.

[Amend 1.3k to show that the scheme sort is required for Standard Mail flats and Bound Printed Matter flats.]

k. A 5-digit/scheme sort for Periodicals flats and irregular parcels (nonletters), Standard Mail flats, and Presorted Bound Printed Matter flats prepared as packages on pallets yields 5-digit scheme pallets containing automation rate and Presorted rate 5-digit packages for those 5-digit ZIP Codes listed in L001 and yields 5-digit pallets containing automation rate and Presorted rate 5-digit packages for other areas (automation rate packages are not applicable to Bound Printed Matter). The 5-digit ZIP Codes in each scheme are treated as a single presort destination subject to a single minimum pallet volume, with no further separation by 5-digit ZIP Code required. Pallets prepared for a 5-digit scheme destination that contain 5-digit packages for only one of the schemed 5-digit areas are still considered to be sorted to the 5-digit scheme and are labeled accordingly. The 5-digit/scheme sort is required for flat-size and irregular parcel-size Periodicals, for Standard Mail flats, and for Presorted Bound Printed Matter flats. The 5-digit/scheme sort may not be used for other mail prepared on pallets, except for 5-digit packages of Standard Mail irregular parcels that are part of a mailing job that is prepared in part as palletized flats at automation rates. Preparation of 5-digit scheme pallets must be done for all 5-digit scheme destinations.

* * * * *

M040 Pallets

M041 General Standards

* * * * *

5.0 PREPARATION

* * * * *

5.2 Required Preparation

These standards apply to:

[Amend 5.2a to show that the L001 scheme sort is required for Standard Mail flats.]

a. Periodicals, Standard Mail, and Package Services (except for Parcel Post mailed at BMC Presort, OBMC Presort, DSCF, and DDU rates). A pallet must be prepared to a required sortation level when there are 500 pounds of Periodicals, Standard Mail, or Package Services mail in packages or sacks; 500 pounds of parcels; or six layers of Periodicals or Standard Mail letter trays. For packages of Periodicals flats and irregular parcels and packages of Standard Mail flats on pallets that are prepared under the standards for package reallocation to protect the SCF pallet (M045.4.0), not all mail for a 5-digit scheme carrier routes, 5-digit scheme, 5-digit carrier routes, or 5-digit pallet or for a merged 5-digit scheme, merged 5-digit, or 3-digit pallet is required to be on that corresponding pallet level. For packages of Standard Mail flats on pallets prepared under the standards for package reallocation to protect the BMC pallet (M045.5.0), not all mail for a required ASF pallet must be on an ASF pallet. Mixed ADC or mixed BMC pallets of sacks, trays, or machinable parcels, as appropriate, must be labeled to the BMC or ADC (as appropriate) serving the post office where mailings are entered into the mailstream. The processing and distribution manager of that facility may issue a written authorization to the mailer to label mixed BMC or mixed ADC pallets to the post office or processing and distribution center serving the post office where mailings are entered. These pallets contain all mail remaining after required and optional pallets are prepared to finer sortation levels under M045, as appropriate.

* * * * *

5.6 Mail on Pallets

These standards apply to mail on pallets:

* * * * *

[Amend 5.6g to read as follows:]

g. For Periodicals flats and irregulars, Standard Mail flats, and Bound Printed Matter flats, packages of carrier route rate mail must be prepared on separate 5-digit pallets from automation and Presorted rate mail. Exception: For Periodicals and Standard Mail, under the standards in M920, M930, and M940, carrier route rate, automation rate, and Presorted rate packages can be combined onto the same merged 5-digit scheme pallet and merged 5-digit pallet for applicable 5-digit ZIP Codes.

[Delete 5.6h.]

* * * * *

M045 Palletized Mailings

* * * * *

3.0 PALLET PRESORT AND LABELING

* * * * *

3.2 Standard Mail Packages, Sacks, or Trays on Pallets

[Amend the introduction to 3.2 and 3.2a through 3.2d to show that the scheme sort using L001 is required for packages of Standard Mail flats.]

Mailers must prepare pallets in the sequence listed below, except that mailings of sacks on pallets, trays on pallets, and irregular parcels must be prepared beginning with 3.2c (because L001 scheme sort is not permitted). Pallets must be labeled according to the Line 1 and Line 2 information listed below and under M031. At the mailer's option, Standard Mail flats prepared as packages on pallets may be palletized in accordance with the advanced presort options in M920, M930, or M940.

a. 5-Digit Scheme Carrier Routes. Required for packages of flats on pallets. Not permitted for sacks or trays on pallets, or for irregular parcels on pallets except under M011. May contain only carrier route rate packages for the same 5-digit scheme under L001. Scheme sort must be done for all 5-digit scheme destinations. For all 5-digit destinations that are not part of a scheme, prepare 5-digit carrier routes pallets under 3.2c.

(1) Line 1: use L001, Column B.

(2) Line 2: “STD FLTS”; followed by “CARRIER ROUTES” or “CR-RTS”; followed by “SCHEME” or “SCH.”

b. 5-Digit Scheme. Required for packages of flats on pallets. Not permitted for sacks or trays on pallets, or for irregular parcels on pallets except under M011. May contain only automation rate and/or Presorted rate packages for the same 5-digit scheme under L001. Scheme sort must be done for all 5-digit scheme destinations. For all 5-digit destinations that are not part of a scheme, prepare 5-digit pallets under 3.2d.

(1) Line 1: use L001, Column B.

(2) Line 2: “STD FLTS 5D”; followed by “BARCODED” or “BC” if the pallet contains automation rate mail; followed by “NONBARCODED” or “NBC” if the pallet contains Presorted rate mail; followed by “SCHEME” or “SCH.”

c. 5-Digit Carrier Routes. Required for sacks and packages; optional for trays. May contain only carrier route rate mail for the same 5-digit ZIP Code.

(1) Line 1: use city, state abbreviation, and 5-digit ZIP Code destination (see M031 for military mail).

(2) Line 2: “STD FLTS” or “STD IRREG” or, for trays on pallets only, “STD LTRS” as applicable; followed by “CARRIER ROUTES” or “CR-RTS.”

d. 5-Digit. Required for sacks and packages; optional for trays. May contain only automation rate and/or Presorted rate mail for the same 5-digit ZIP Code.

(1) Line 1: use city, state abbreviation, and 5-digit ZIP Code destination (see M031 for military mail).

(2) Line 2: “STD FLTS 5D” or “STD IRREG 5D” or, for trays on pallets only, “STD LTRS 5D” as applicable; followed by “BARCODED” or “BC” if the pallet contains automation rate mail; followed by “NONBARCODED” or “NBC” if the pallet contains Presorted rate mail.

* * * * *

3.3 Bound Printed Matter Flats—Packages and Sacks on Pallets

[Amend the introduction to 3.3 and 3.3a through 3.3d to show that the scheme sort using L001 is required for packages of Bound Printed Matter flats.]

Mailers must prepare pallets in the sequence listed below, except that mailings of sacks on pallets must be prepared beginning with 3.3c (because L001 scheme sort is not permitted). Pallets must be labeled according to the Line 1 and Line 2 information listed below and under M031.

a. 5-Digit Scheme Carrier Routes. Required for packages of flats on pallets. Not permitted for sacks on pallets. May contain only Carrier Route rate packages for the same 5-digit scheme under L001. Scheme sort must be done for all 5-digit scheme destinations. For all 5-digit destinations that are not part of a scheme, prepare 5-digit carrier routes pallets under 3.3c.

(1) Line 1: use L001, Column B.

(2) Line 2: “PSVC FLTS,” followed by “CARRIER ROUTES” or “CR-RTS” and “SCHEME” or “SCH.”

b. 5-Digit Scheme. Required for packages of flats on pallets. Not permitted for sacks on pallets. May contain only Presorted rate packages for the same 5-digit scheme under L001. Scheme sort must be done for all 5-digit scheme destinations. For all 5-digit destinations that are not part of a scheme, prepare 5-digit pallets under 3.3d.

(1) Line 1: use L001, Column B.

(2) Line 2: “PSVC FLTS 5D” followed by “SCHEME” or “SCH.”

c. 5-Digit Carrier Routes. Required for sacks and packages. May contain only Carrier Route rate mail for the same 5-digit ZIP Code.

(1) Line 1: use city, state abbreviation, and 5-digit ZIP Code destination (see M031 for military mail).

(2) Line 2: “PSVC FLTS” followed by “CARRIER ROUTES” or “CR-RTS.”

d. 5-Digit. Required for sacks and packages. May contain only Presorted rate mail for the same 5-digit ZIP Code.

(1) Line 1: use city, state abbreviation, and 5-digit ZIP Code destination (see M031 for military mail).

(2) Line 2: “PSVC FLTS 5D.”

* * * * *

4.0 PACKAGE REALLOCATION TO PROTECT SCF PALLET FOR PERIODICALS FLATS AND IRREGULAR PARCELS AND STANDARD MAIL FLATS ON PALLETS

[Amend 4.1 to delete references to optional sort levels.]

4.1 Basic Standards

Package reallocation to protect the SCF pallet is an optional preparation method (if performed, package reallocation must be done for the complete mailing job); only PAVE-certified presort software may be used to create pallets under the standards in 4.2 through 4.4. The software will determine if mail for an SCF service area would fall beyond the SCF level if all merged 5-digit scheme, 5-digit scheme carrier routes, 5-digit scheme, merged 5-digit, 5-digit carrier routes, 5-digit, or 3-digit pallets are prepared. Reallocation is performed only when there is mail for the SCF service area that would fall beyond the SCF pallet level (e.g., to an ADC or BMC pallet). The amount of mail required to bring the mail that would fall beyond the SCF level back to an SCF level is the minimum volume that will be reallocated, where possible.

* * * * *

M100 First-Class Mail (Nonautomation)

* * * * *

M130 Presorted First-Class Mail

1.0 BASIC STANDARDS

* * * * *

1.6 Co-Traying With Automation Rate Mail

Except for automation rate mailings prepared under the tray-based preparation option in M820.3.0, if a single mailing job contains an automation rate mailing and a Presorted rate mailing and both mailings are reported on the same postage statement, then the mailing job must be presorted under the co-traying standards in M910.

* * * * *

M600 Standard Mail (Nonautomation)

M610 Presorted Standard Mail

1.0 BASIC STANDARDS

1.1 All Mailings

In addition to the preparation standards in 2.0 through 5.0, the following basic standards must be met for all Presorted rate mailings:

* * * * *

[Amend 1.1f to change the reference from 1.3 to 1.4.]

f. Subject to 1.4, letter-size pieces must be prepared in trays and, unless palletized, flat-size pieces must be prepared in sacks.

* * * * *

[Renumber current 1.2 through 1.6 as 1.3 through 1.7, respectively. Add new 1.2 to read as follows:]

1.2 Additional Standards for Sacked Flats Mailing Jobs Containing More Than One Mailing

The following standards apply:

a. If the mailing job contains a carrier route mailing, an automation rate mailing, and a Presorted rate mailing, then it must be prepared under one of the following options: 1) the carrier route mailing must be prepared under E630 and M620 and the automation rate and Presorted rate mailings must be prepared under M910; or 2) all three mailings in the mailing job must be prepared under M920.

b. If the mailing job contains an automation rate mailing and a Presorted rate mailing, then it must be prepared under the co-sacking standards in M910.

c. If the mailing job contains a carrier route mailing and a Presorted rate mailing, then it must be separately sacked under M610 and M620 or prepared using the merged sacking option under M920.

d. If the mailing job contains a carrier route mailing and an automation rate mailing, then it must be separately sacked under M620 and M820 or prepared using the merged sacking option under M920.

* * * * *

[Delete renumbered 1.6 (former 1.5), Co-Sacking With Automation Rate Mail, and renumber 1.7 as 1.6. Amend 1.6 to read as follows:]

1.6 Merged Containerization of Flat-Size Carrier Route, Automation Rate, and Presorted Rate Mail

Under the optional preparation method in M920, 5-digit packages of Presorted flats must be co-sacked with packages of carrier route flats prepared under M620 and with 5-digit packages of automation flats prepared under M820 in merged 5-digit scheme sacks and merged 5-digit sacks. Under the optional preparation methods in M920, M930, or M940, 5-digit packages of Presorted flats must be copalletized with packages of carrier route rate flats prepared under M620 and with 5-digit packages of automation rate flats prepared under M820 on merged 5-digit scheme pallets and merged 5-digit pallets. See 1.2a for information on when preparation under M920 may be required.

* * * * *

M620 Enhanced Carrier Route Standard Mail

1.0 BASIC STANDARDS

* * * * *

[Amend 1.6 to read as follows:]

1.6 Merged Containerization of Flat-Size Carrier Route, Automation Rate, and Presorted Rate Mail

Under the optional preparation method in M920, packages of carrier route rate flats must be co-sacked with 5-digit packages of Presorted rate flats prepared under M610 and with 5-digit packages of automation rate flats prepared under M820 in merged 5-digit scheme sacks and merged 5-digit sacks. Under the optional preparation methods in M920, M930, or M940, packages of carrier route rate flats must be copalletized with 5-digit packages of Presorted flats prepared under M610 and with 5-digit packages of automation rate flats prepared under M820 on merged 5-digit scheme pallets and merged 5-digit pallets.

* * * * *

Note: The current DMM combines the preparation standards for flats and irregulars into one section. Because the L001 scheme sort will be required for flats but not for irregulars, the current single section has been split into two sections: one for flats and one for irregulars. The standards for irregulars are included in this final rule because they have been renumbered and reorganized; however, there are no changes to the mail preparation for irregular parcels.

[Amend 4.0 to add the required L001 scheme sort for flats to read as follows:]

4.0 SACK PREPARATION—FLATS

4.1 Required Sack Minimums

A sack must be prepared when the quantity of mail for a required presort destination reaches either 125 pieces or 15 pounds of pieces, whichever occurs first, subject to these conditions:

a. For identical-weight pieces, a single-piece weight of 1.92 ounces (0.12 pound) results in 125 pieces weighing 15 pounds. Identical-weight pieces weighing 1.92 ounces (0.12 pound) or less must be prepared using the 125-piece minimum; those that weigh more must be prepared using the 15-pound minimum.

b. For nonidentical-weight pieces, mailers must either use the minimum that applies to the average piece weight for the entire mailing (divide the net weight of the mailing by the number of pieces; the resulting average single-piece weight determines whether the 125-piece or 15-pound minimum applies) or sack by the actual piece count or mail weight for each sack, if documentation can be provided with the mailing that shows (specifically for each sack) the number of pieces and their total weight.

c. Mailers must note on the accompanying postage statement whether they applied the 125-piece (“PCS”) or 15-pound (“WT”) threshold or the method in 4.1b (“BOTH”).

4.2 Sack Preparation

Sack size, preparation sequence, and labeling:

a. Carrier route: required (minimum of 125 pieces/15 pounds, smaller volume not permitted).

(1) Line 1: use 5-digit ZIP Code destination of packages, preceded for military mail by the prefixes under M031.

(2) Line 2: “STD FLTS ECRWSS” or “STD FLTS ECRWSH” or “STD FLTS ECRLOT” as applicable, followed by the route type and number.

b. 5-digit scheme carrier routes: required (no minimum).

(1) Line 1: use L001, column B.

(2) Line 2: “STD FLTS CR-RTS SCH.”

c. 5-digit carrier routes: required (no minimum).

(1) Line 1: use 5-digit ZIP Code destination of packages, preceded for military mail by the prefixes under M031.

(2) Line 2: “STD FLTS CR-RTS.”

[Renumber current 5.0, Residual Pieces, as 6.0. Add new 5.0 to read as follows:]

5.0 SACK PREPARATION—IRREGULAR PARCELS

5.1 Required Sack Minimums

A sack must be prepared when the quantity of mail for a required presort destination reaches either 125 pieces or 15 pounds of pieces, whichever occurs first, subject to these conditions:

a. For identical-weight pieces, a single-piece weight of 1.92 ounces (0.12 pound) results in 125 pieces weighing 15 pounds. Identical-weight pieces weighing 1.92 ounces (0.12 pound) or less must be prepared using the 125-piece minimum; those that weigh more must be prepared using the 15-pound minimum.

b. For nonidentical-weight pieces, mailers must either use the minimum that applies to the average piece weight for the entire mailing (divide the net weight of the mailing by the number of pieces; the resulting average single-piece weight determines whether the 125-piece or 15-pound minimum applies) or sack by the actual piece count or mail weight for each sack, if documentation can be provided with the mailing that shows (specifically for each sack) the number of pieces and their total weight.

c. Mailers must note on the accompanying postage statement whether they applied the 125-piece (“PCS”) or 15-pound (“WT”) threshold or the method in 5.1b (“BOTH”).

5.2 Sack Preparation

Sack size, preparation sequence, and labeling:

a. Carrier route: required (minimum of 125 pieces/15 pounds, smaller volume not permitted).

(1) Line 1: use 5-digit ZIP Code destination of packages, preceded for military mail by the prefixes under M031.

(2) Line 2: “STD IRREG WSS” or “STD IRREG WSH” or “STD IRREG LOT” as applicable, followed by the route type and number.

b. 5-digit carrier routes: required (no minimum).

(1) Line 1: use 5-digit ZIP Code destination of packages, preceded for military mail by the prefixes under M031.

(2) Line 2: “STD IRREG CR-RTS.”

* * * * *

M700 Package Services

* * * * *

M720 Bound Printed Matter

* * * * *

M723 Carrier Route Bound Printed Matter

* * * * *

2.0 REQUIRED PREPARATION—FLATS

* * * * *

2.3 Sack Preparation

Preparation sequence and Line 1 sack labeling:

* * * * *

[Amend 2.3b to show that the L001 scheme sort is required, not optional.]

b. 5-digit scheme carrier routes: required (no minimum); for Line 1, use L001, Column B.

* * * * *

M800 All Automation Mail

* * * * *

M820 Flats

1.0 BASIC STANDARDS

* * * * *

[Amend 1.9 to show that co-traying is required for First-Class Mail and co-sacking is required for Standard Mail.]

1.9 Required Co-Traying and Co-Sacking With Presorted Rate Mail

The following standards apply:

a. First-Class Mail: Except for mailings prepared under the tray-based preparation option in 3.0, if the mailing job contains an automation rate mailing and a Presorted rate mailing and both mailings are reported on the same postage statements, then the mailing job must be prepared under the co-traying standards in M910.

b. Periodicals:

(1) If the mailing job contains a carrier route mailing, an automation rate mailing, and a Presorted rate mailing, then it must be prepared under one of the following options: (1) the carrier route mailing must be prepared under E230 and M220 and the automation rate and Presorted rate mailings must be prepared under M910; or (2) all three mailings in the mailing job must be prepared under M920.

(2) If the mailing job contains an automation rate mailing and a Presorted rate mailing, then it must be prepared under the co-sacking standards in M910.

(3) If the mailing job contains a carrier route mailing and an automation rate mailing, then it must be separately sacked under M220 and M820 or prepared using the merged sack option under M920.

c. Standard Mail:

(1) If the mailing job contains a carrier route mailing, an automation rate mailing, and a Presorted rate mailing, then it must be prepared under one of the following options: (1) the carrier route mailing must be prepared under E630 and M620 and the automation rate and Presorted rate mailings must be prepared under M910; or (2) all three mailings in the mailing job must be prepared under M920.

(2) If the mailing job contains only an automation rate mailing and a Presorted rate mailing and both mailings are reported on the same postage statement, then the mailing job must be prepared under the co-sacking standards in M910.

(3) If the mailing job contains only a carrier route mailing and an automation rate mailing, then it must be separately sacked under M620 and M820 or prepared using the merged sack option under M920.

[Amend 1.10 to read as follows:]

1.10 Optional Merged Containerization With Presorted and Carrier Route Flats

When the conditions and preparation standards in M920, M930, or M940 are met, 5-digit packages of Presorted, automation, and carrier route rate mail that are part of the same mailing job may be combined on merged 5-digit scheme sacks or pallets and merged 5-digit sacks or pallets. Packages co-sacked or copalletized must be part of the same mailing job and mail class.

* * * * *

M900 Advanced Preparation Options for Flats

M910 Co-Traying and Co-Sacking Packages of Automation and Presorted Mailings

1.0 FIRST-CLASS MAIL

1.1 Basic Standards

[Amend the introduction of 1.1 and 1.1a to show that co-traying is required:]

Packages of flats in an automation rate mailing prepared under M820.2.0 must be co-trayed with packages of flats in a Presorted rate mailing under the following conditions:

a. The automation rate pieces and Presorted rate pieces are part of the same mailing job and are reported on the same postage statement.

* * * * *

3.0 STANDARD MAIL

3.1 Basic Standards

[Amend the introduction of 3.1 and 3.1a to show that co-sacking is required:]

Packages of flats in an automation rate mailing must be co-sacked with packages of flats in a Presorted rate mailing under the following conditions:

a. The automation rate pieces and Presorted rate pieces are part of the same mailing job and are reported on the same postage statement.

* * * * *

M920 Merged Containerization of Packages Using the City State Product

* * * * *

2.0 STANDARD MAIL

2.1 Basic Standards

Carrier route packages of flats in a carrier route rate mailing may be placed in the same sack or on the same pallet as 5-digit packages of flats from an automation rate mailing and 5-digit packages of flats from a Presorted rate mailing under the following conditions:

* * * * *

[Amend 2.1f to delete references to the optional L001 scheme sort. This sort is now required.]

f. If sortation under this section is performed, merged 5-digit sacks or pallets must be prepared for all 5-digit ZIP Codes with an “A” or “C” indicator in the City State Product that permits such preparation when there is enough volume for the 5-digit ZIP Code to prepare that sack or pallet.

* * * * *

[Amend 2.1k to delete references to the optional L001 scheme sort. This sort is now required.]

k. The packages from each separate mailing must be sorted together into sacks (co-sacked) under 2.3 and 2.4 or on pallets (copalletized) under 2.5 using presort software that is PAVE-certified.

* * * * *

[Delete 2.4 and 2.6. Renumber 2.5 (sacking with scheme sort) as 2.4. Renumber 2.7 (palletizing with scheme sort) as 2.5. Amend the title and introduction of renumbered 2.4 to read as follows:]

2.4 Sack Preparation and Labeling

Mailers must prepare sacks in the following manner and sequence. All carrier route packages must be placed in sacks under 2.4a through 2.4e as described below. Mailers must prepare all merged 5-digit scheme sacks, 5-digit scheme carrier routes sacks, and merged 5-digit sacks that are possible in the mailing based on the volume of mail to the destination using L001 and the Carrier Route Indicators field in the City State Product. Mailers must label sacks according to the Line 1 and Line 2 information listed below and under M032.

* * * * *

[Amend the title and introduction of renumbered 2.5 to read as follows:]

2.5 Pallet Preparation and Labeling

Mailers must prepare pallets in the manner and sequence listed below and under M041. Mailers must prepare all merged 5-digit scheme, 5-digit scheme carrier routes, 5-digit scheme, and merged 5-digit pallets that are possible in the mailing based on the volume of mail to the destination using L001 and/or the City State Product. Mailers must label pallets according to the Line 1 and Line 2 information listed below and under M031.

* * * * *

M930 Merged Palletization of Packages Using a 5% Threshold

* * * * *

2.0 STANDARD MAIL

2.1 Basic Standards

[Amend the introduction to read as follows:]

Carrier route packages of flats in a carrier route rate mailing may be placed on the same pallet as 5-digit packages of flats from an automation rate mailing and 5-digit packages of flats from a Presorted rate mailing under the following conditions:

* * * * *

[Amend 2.1d and 2.1e to delete references to the optional L001 scheme sort.]

d. Automation rate 5-digit packages and Presorted rate 5-digit packages may be copalletized with carrier route packages only when the pieces in the 5-digit packages do not exceed the 5% threshold described in 2.3. Pallets of mail sorted in this manner are called “merged 5-digit scheme” pallets.

e. If sortation under this section is performed, merged 5-digit scheme pallets must be prepared whenever there is enough volume of carrier route and 5-digit packages under M041 and 2.3 to prepare such pallets.

* * * * *

[Amend 2.1h to delete references to the optional L001 scheme sort.]

h. The packages from each separate mailing must be sorted together on pallets (copalletized) using presort software that is PAVE-certified.

* * * * *

2.3 5% Threshold Standards

[Amend the introduction of 2.3 to show that the L001 scheme sort is the only allowable sort.]

Mailers may place 5-digit packages with carrier route packages on the same merged 5-digit scheme and merged 5-digit pallet if all of the following conditions are met:

* * * * *

[Delete 2.4. Renumber 2.5 (palletizing with scheme sort) as 2.4. Amend the title and introduction of renumbered 2.4 to read as follows:]

2.4 Pallet Preparation and Labeling

Mailers must prepare pallets of packages in the manner and sequence listed below and under M041. Mailers must prepare all merged 5-digit scheme, 5-digit scheme carrier routes, 5-digit scheme, and merged 5-digit pallets that are possible in the mailing based on the volume of mail to the destination using L001 and the 5% threshold. Mailers must label pallets according to the Line 1 and Line 2 information listed below and under M031.

* * * * *

M940 Merged Palletization of Packages Using the City State Product and a 5% Threshold

* * * * *

2.0 STANDARD MAIL

2.1 Basic Standards

[Amend the introduction to read as follows:]

Carrier route packages of flats in a carrier route rate mailing may be placed on the same pallet as 5-digit packages of flats from an automation rate mailing and 5-digit packages of flats from a Presorted rate mailing under the following conditions:

* * * * *

[Amend 2.1f to delete references to the optional L001 scheme sort.]

f. If sortation under this section is performed, then merged 5-digit scheme pallets must be prepared whenever there is enough volume of carrier route and 5-digit packages under M041 to prepare such pallets using the criteria in 2.1e and the sortation criteria in 2.4.

* * * * *

[Amend 2.1j to delete references to the optional L001 scheme sort.]

j. The packages from each separate mailing must be sorted together on pallets (copalletized) using presort software that is PAVE-certified.

* * * * *

2.3 5% Threshold Standard

[Amend the introduction to show that the L001 scheme sort is the only allowable sort.]

For 5-digit ZIP Codes with a “B” or “D” indicator in the City State Product, mailers may place 5-digit packages with carrier route packages on the same merged 5-digit scheme and merged 5-digit pallet if all of the following conditions are met:

* * * * *

[Delete 2.4. Renumber 2.5 (palletizing with scheme sort) as 2.4. Amend the title and introduction to read as follows:]

2.4 Pallet Preparation and Labeling

Mailers must prepare pallets of packages in the manner and sequence listed below and under M041. Mailers must prepare all merged 5-digit scheme, 5-digit scheme carrier routes, 5-digit scheme, and merged 5-digit pallets that are possible in the mailing based on the volume of mail to the destination using L001, the City State Product, and the 5% threshold. Mailers must label pallets according to the Line 1 and Line 2 information listed below and under M031.

* * * * *

An appropriate amendment to 39 CFR Part 111 to reflect these changes will be published.

Stanley F. Mires,
Chief Counsel, Legislative.

[FR Doc. 01-13174 Filed 5-23-01; 8:45 am]

BILLING CODE 7710-12-P